SUSQUEHANNA RIVER BASIN COMMISSION

Public Hearing

AGENCY: Susquehanna River Basin Commission.

ACTION: Notice.

SUMMARY: The Susquehanna River Basin Commission will hold a public hearing on August 4, 2016, in Harrisburg, Pennsylvania. At this public hearing, the Commission will hear testimony on the projects listed in the Supplementary Information section of this notice. The Commission will also hear testimony on a proposal to rescind its Information Technology Services Fee Policy. Such projects and the proposal are intended to be scheduled for Commission action at its next business meeting, tentatively scheduled for September 8, 2016, which will be noticed separately. The public should take note that this public hearing will be the only opportunity to offer oral comment to the Commission for the listed projects and proposal. The deadline for the submission of written comments is August 15, 2016.

DATES: The public hearing will convene on August 4, 2016, at 2:30 p.m. The public hearing will end at 5:00 p.m. or at the conclusion of public testimony, whichever is sooner. The deadline for the submission of written comments is August 15, 2016.

ADDRESSES: The public hearing will be conducted at the Pennsylvania State Capitol, Room 8E-B, East Wing, Commonwealth Avenue, Harrisburg, PA.

FOR FURTHER INFORMATION CONTACT: Jason Oyler, General Counsel, telephone: (717) 238-0423, ext. 1312; fax: (717) 238-2436. Information concerning the applications for these projects is available at the SRBC Water Resource Portal at www.srbc.net/wrp. Additional supporting documents are available to inspect and copy in accordance with the Commission's Access to Records Policy at www.srbc.net/pubinfo/docs/2009-02_Access_to_Records_Policy_20140115.pdf.

SUPPLEMENTARY INFORMATION: The public hearing will cover a proposed rescission to the Commission's Information Technology Services Fee Policy, as posted on the SRBC Public Participation Center Web page at www.srbc.net/pubinfo/publicparticipation.htm. The public hearing will also cover the following projects:

Projects Scheduled for Action

1. Project Sponsor and Facility: Bloomfield Borough Water Authority, Centre Township, Perry County, PA. Application for groundwater withdrawal of up to 0.302 mgd (30-day average) from Well 3.

2. Project Sponsor and Facility: Cabot Oil & Gas Corporation (Susquehanna River), Great Bend Township, Susquehanna County, PA. Application for renewal of surface water withdrawal of up to 2.000 mgd (peak day) (Docket No. 20120904).

3. Project Sponsor and Facility: Elizabethtown Area Water Authority, Elizabethtown Borough, Lancaster County, PA. Application for groundwater withdrawal of up to 0.201 mgd (30-day average) from Well 1.

4. Project Sponsor and Facility: Elizabethtown Area Water Authority, Mount Joy Township, Lancaster County, PA. Application for groundwater withdrawal of up to 0.106 mgd (30-day average) from Well 3.

5. Project Sponsor and Facility: Elizabethtown Area Water Authority, Elizabethtown Borough, Lancaster County, PA. Application for groundwater withdrawal of up to 0.130 mgd (30-day average) from Well 4.

6. Project Sponsor and Facility: Elizabethtown Area Water Authority, Mount Joy Township, Lancaster County, PA. Application for groundwater withdrawal of up to 0.187 mgd (30-day average) from Well 8.

7. Project Sponsor and Facility: Elizabethtown Area Water Authority, Mount Joy Township, Lancaster County, PA. Application for groundwater withdrawal of up to 0.216 mgd (30-day average) from Well 9.

8. Project Sponsor: Exelon Generation Company, LLC. Project Facility: Muddy Run Pumped Storage Project, Drumore and Martic Townships, Lancaster County, PA. Application for an existing hydroelectric facility.

9. Project Sponsor and Facility: Geisinger Health System, Mahoning Township, Montour County, PA. Modification to increase consumptive water use by an additional 0.319 mgd (peak day), for a total consumptive water use of up to 0.499 mgd (peak day) (Docket No. 19910103).

10. Project Sponsor and Facility: Gilberton Power Company, West Mahanoy Township, Schuylkill County, PA. Application for renewal of consumptive water use of up to 1.510 mgd (peak day) (Docket No. 19851202).

11. Project Sponsor and Facility: Gilberton Power Company, West Mahanoy Township, Schuylkill County, PA. Application for groundwater withdrawal of up to 1.870 mgd (30-day average) from the Gilberton Mine Pool.

12. Project Sponsor and Facility: Manbel Devco I, LP, Manheim Township, Lancaster County, PA. Application for groundwater withdrawal of up to 4.320 mgd (30-day average) from the Belmont Quarry.

13. Project Sponsor: Pennsylvania American Water Company. Project Facility: Nittany Water System, Walker Township, Centre County, PA. Application for groundwater withdrawal of up to 0.432 mgd (30-day average) from Nittany Well 1.

14. Project Sponsor and Facility: Republic Services of Pennsylvania, LLC, Windsor and Lower Windsor Townships, York County, PA. Application for renewal of groundwater withdrawal of up to 0.350 mgd (30-day average) from groundwater remediation wells (Docket No. 19860903).

15. Project Sponsor and Facility: SWN Production Company, LLC, Herrick Township, Bradford County, PA. Application for groundwater withdrawal of up to 0.101 mgd (30-day average) from the Fields Supply Well.

16. Project Sponsor and Facility: Talisman Energy USA Inc. (Susquehanna River), Sheshequin Township, Bradford County, PA. Application for renewal of surface water withdrawal of up to 1.500 mgd (peak day) (Docket No. 20120912).

17. Project Sponsor and Facility: Transcontinental Gas Pipe Line Company, LLC. Project: Atlantic Sunrise (Chiques Creek), West Hempfield Township, Lancaster County, PA. Application for surface water withdrawal of up to 2.880 mgd (peak day).

18. Project Sponsor and Facility: Transcontinental Gas Pipe Line Company, LLC. Project: Atlantic Sunrise (Conestoga River-1), Conestoga Township, Lancaster County, PA. Application for surface water withdrawal of up to 2.880 mgd (peak day).

19. Project Sponsor and Facility: Transcontinental Gas Pipe Line Company, LLC. Project: Atlantic Sunrise (Conestoga River-1), Conestoga Township, Lancaster County, PA. Application for consumptive water use of up to 0.100 mgd (peak day).

20. Project Sponsor and Facility: Transcontinental Gas Pipe Line Company, LLC. Project: Atlantic Sunrise (Conestoga River-2), Conestoga Township, Lancaster County, PA. Application for surface water withdrawal of up to 2.592 mgd (peak day).

21. Project Sponsor and Facility: Transcontinental Gas Pipe Line Company, LLC. Project: Atlantic Sunrise (Conestoga River-2), Conestoga Township, Lancaster County, PA. Application for consumptive water use of up to 0.100 mgd (peak day).

22. Project Sponsor and Facility: Transcontinental Gas Pipe Line Company, LLC. Project: Atlantic Sunrise (Deep Creek), Hegins Township, Schuylkill County, PA. Application for surface water withdrawal of up to 2.880 mgd (peak day).

23. Project Sponsor and Facility: Transcontinental Gas Pipe Line Company, LLC. Project: Atlantic Sunrise (Fishing Creek), Sugarloaf Township, Columbia County, PA. Application for surface water withdrawal of up to 2.592 mgd (peak day).

24. Project Sponsor and Facility: Transcontinental Gas Pipe Line Company, LLC. Project: Atlantic Sunrise (Little Fishing Creek), Mount Pleasant Township, Columbia County, PA. Application for surface water withdrawal of up to 2.880 mgd (peak day).

25. Project Sponsor and Facility: Transcontinental Gas Pipe Line Company, LLC. Project: Atlantic Sunrise (Pequea Creek), Martic Township, Lancaster County, PA. Application for surface water withdrawal of up to 2.880 mgd (peak day).

26. Project Sponsor and Facility: Transcontinental Gas Pipe Line Company, LLC. Project: Atlantic Sunrise (Roaring Creek), Franklin Township, Columbia County, PA. Application for surface water withdrawal of up to 2.880 mgd (peak day).

27. Project Sponsor and Facility: Transcontinental Gas Pipe Line Company, LLC. Project: Atlantic Sunrise (Susquehanna River), Eaton Township, Wyoming County, PA. Application for surface water withdrawal of up to 2.592 mgd (peak day).

28. Project Sponsor and Facility: Transcontinental Gas Pipe Line Company, LLC. Project: Atlantic Sunrise (Susquehanna River), Eaton Township, Wyoming County, PA. Application for consumptive water use of up to 0.100 mgd (peak day).

29. Project Sponsor and Facility: Transcontinental Gas Pipe Line Company, LLC. Project: Atlantic Sunrise (Susquehanna River-1), Montour Township and Catawissa Borough, Columbia County, PA. Application for surface water withdrawal of up to 2.880 mgd (peak day).

30. Project Sponsor and Facility: Transcontinental Gas Pipe Line Company, LLC. Project: Atlantic Sunrise (Susquehanna River-1), Montour Township and Catawissa Borough, Columbia County, PA. Application for consumptive water use of up to 0.100 mgd (peak day).

31. Project Sponsor and Facility: Transcontinental Gas Pipe Line Company, LLC. Project: Atlantic Sunrise (Susquehanna River-2), Montour Township, Columbia County, PA. Application for surface water withdrawal of up to 2.880 mgd (peak day).

32. Project Sponsor and Facility: Transcontinental Gas Pipe Line Company, LLC. Project: Atlantic Sunrise (Susquehanna River-2), Montour Township, Columbia County, PA. Application for consumptive water use of up to 0.100 mgd (peak day).

33. Project Sponsor and Facility: Transcontinental Gas Pipe Line Company, LLC. Project: Atlantic Sunrise (Swatara Creek), East Hanover Township, Lebanon County, PA. Application for surface water withdrawal of up to 2.880 mgd (peak day).

34. Project Sponsor and Facility: Village of Windsor, Broome County, NY. Application for groundwater withdrawal of up to 0.380 mgd (30-day average) from Well 2.

35. Project Sponsor and Facility: West Manchester Township Authority, West Manchester Township, York County, PA. Application for groundwater withdrawal of up to 0.216 mgd (30-day average) from Well 7.

Opportunity To Appear and Comment

Interested parties may appear at the hearing to offer comments to the Commission on any project or proposal listed above. The presiding officer reserves the right to limit oral statements in the interest of time and to otherwise control the course of the hearing. Rules of conduct will be posted on the Commission's Web site, www.srbc.net, prior to the hearing for review. The presiding officer reserves the right to modify or supplement such rules at the hearing. Written comments on any project listed above may also be mailed to Mr. Jason Oyler, General Counsel, Susquehanna River Basin Commission, 4423 North Front Street, Harrisburg, PA. 17110-1788, or submitted electronically through www.srbc.net/pubinfo/publicparticipation.htm. Comments mailed or electronically submitted must be received by the Commission on or before August 15, 2016, to be considered.

Authority: Pub. L. 91-575, 84 Stat. 1509 et seq., 18 CFR parts 806, 807, and 808.

Dated: June 30, 2016.
Andrew D. Dehoff,
Executive Director.

[FR Doc. 2016-15994 Filed 7-6-16; 8:45 am]

BILLING CODE 7040-01-P